DEPARTMENT OF HOMELAND SECURITY

U.S. Customs and Border Protection

Requirement for Persons Making Payment by Check to CBP To Provide Their Taxpayer Identifying Number

AGENCY: Customs and Border Protection, Department of Homeland Security.

ACTION: General notice.

SUMMARY: This notice announces that all persons making payment to Customs and Border Protection (CBP) by check must provide their Taxpayer Identifying Number (TIN) when paying CBP. The TIN should be written on the face of the check. Providing the TIN on the face of the check will facilitate payment processing.

DATES: Effective Date: December 4, 2009.

FOR FURTHER INFORMATION CONTACT: Nanette Voll, Office of Finance, Revenue Division, Customs and Border Protection, Tel.: (317) 614-4458.

SUPPLEMENTARY INFORMATION:

Background

Pursuant to the Debt Collection Improvement Act of 1996, 31 U.S.C. 7701(c), persons “doing business” with Federal agencies, which includes persons engaging in activities that may require making payments to Customs and Border Protection (CBP), are required by law to provide their Taxpayer Identifying Number (TIN) to the agency. “Taxpayer identifying number” is defined in 31 U.S.C. 7701(a)(2) as the identifying number required under section 6109 of the Internal Revenue Code of 1986 (26 U.S.C. 6109). Section 6109(d) provides that a social security account number constitutes the taxpayer identifying number for purposes of Title 26, unless otherwise specified by the Secretary of the Treasury. It is further noted that the Internal Revenue Service regulations, at 26 CFR 301.7701-12, indicate that an employer identification number is a taxpayer identifying number for purposes of 26 U.S.C. 6109.

This notice announces that all persons making payment to the agency, by any type of check and for any amount, should include the requisite TIN, either the social security account number or employer identification number, on the face of the submitted checks. Submission of TIN data in this manner will facilitate payment processing using Paper Check Conversion Over the Counter [PCC OTC] software. PCC OTC has been used by CBP since 2006 to scan checks submitted for the payment of customs charges. The scanned images are maintained in a database by Financial Management Services, U.S. Department of the Treasury, and a legally sufficient substitute image of the check is transmitted through the banking network for payment. Inclusion of TIN on the face of all checks submitted to CBP will ensure that this data is collected and processed in a uniform and secure manner.

Dated: November 23, 2009.
Elaine Killoran,
Acting Assistant Commissioner, Office of Finance.

[FR Doc. E9-28905 Filed 12-3-09; 8:45 am]

BILLING CODE P